DEPARTMENT OF ENERGY

Federal Energy Regulatory Commission

[ Docket No. CP13-505-000]

Trunkline Gas Company, LLC; Notice of Application

Take notice that on June 19, 2013, Trunkline Gas Company, LLC. (Trunkline) filed with the Federal Energy Regulatory Commission an application under section 7(c) of the Natural Gas Act (NGA) requesting authorization to modify its existing point of receipt, referred to as the Creole Trail Interconnect located in Beauregard Parish, Louisiana, by the addition of electronic gas measurement equipment, two 24-inch tees, overpressure protection equipment, check valves, insulating kits and associated piping. The proposed modifications will allow for the delivery of gas to Cheniere Creole Trail Pipeline, LP (Cheniere), through the Creole Trail Interconnect to provide backhaul transportation capacity on Trunkline's system as requested by Sabine Pass Liquefaction, LLC. in order to provide feed gas to its export facilities approved by the Commission in CP11-72-000.¹ The proposed modifications will not affect Trunkline's peak day or annual deliveries. Trunkline also requests a waiver of sections 154.1(d) and 154.207 of the Commission's regulations regarding the non-conforming nature of the Firm Transportation Service Agreement that will be executed between Trunkline and Sabine Pass Liquefaction for the requested backhaul transportation service.

¹ Sabine Pass Liquefaction, LLC and Sabine Pass LNG, L.P., 139 FERC ¶ 61,039 (2012).

Trunkline's application is on file with the Commission and open to public inspection. This filing is available for review at the Commission in the Public Reference Room or may be viewed on the Commission's Web site at http://www.ferc.gov using the “eLibrary” link. Enter the docket number excluding the last three digits in the docket number field to access the document. For assistance, contact FERC at FERCOnlineSupport@ferc.gov or call toll-free, (886) 208-3676 or TYY, (202) 502-8659.

Any questions regarding the application should be directed to Michael T. Langston, Vice President, Chief Regulatory Officer, Trunkline Gas Company, LLC, 1300 Main Street, Houston, TX 77002, by phone at (713) 989-7610 or by email at michael.langston@energytransfer.com or to James F. Moriarty, Esq., Locke Lord, LLP, 701 8th Street NW., Suite 700, Washington, DC 20001, by phone at (202) 220-6915 or by email at jmoriarty@lockelord.com.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and seven copies of the protest or intervention to the Federal Energy regulatory Commission, 888 First Street NE., Washington, DC 20426.

Comment Date: July 17, 2013.

Dated: June 26, 2013.
Kimberly D. Bose,
Secretary.

[FR Doc. 2013-15862 Filed 7-1-13; 8:45 am]

BILLING CODE 6717-01-P